DEPARTMENT OF THE TREASURY

Submission for OMB Review; Comment Request

August 10, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 18, 2006 to be assured of consideration.

Alcohol and Tobacco Tax and Trade Bureau (TTB)

OMB Number: 1513-060.

Type of Review: Extension.

Title: Letterhead Application and Notices Relating to Tax-Free Alcohol.

Description: Tax-free alcohol is used for non-beverage purposes in scientific research and medicinal uses by educational organizations, hospitals, laboratories, etc. Use of tax-free alcohol is regulated to prevent illegal diversion to taxable beverage use. Permits/Applications control authorized uses and flow. TTB REC 5150/4 is designed to protect revenue and public safety.

Respondents: Private Sector.

Estimated Total Burden Hours: 2,222 hours.

OMB Number: 1513-0063.

Type of Review: Extension.

Title: Stills: Notices, Registration, and Records TTB REC 5150/8.

Description: The information collection is used to account for and regulate the distillation of distilled spirits to protect the revenue and to provide for identification of distillers.

Respondents: Private Sector.

Estimated Total Burden Hours: 42 hours.

OMB Number: 1513-0066.

Type of Review: Extension.

Title: Retail Liquor Dealers Records of Receipts of Alcoholic Beverages and Commercial Invoices, TTB REC 5170/3Notices.

Description: The primary objectives of this recordkeeping requirement are revenue protection, by establishment of accountability data available for audit purposes and consumer protection, by subject record traceability of alcoholic beverages to the retail liquor dealer level of distribution in the event of defective products. This collection of information is contained in 27 CFR 31.234.

Respondents: Private Sector.

Estimated Total Burden Hours: 1 hour.

OMB Number: 1513-0067.

Type of Review: Extension.

Title: Wholesale Dealers Applications, Letterheads, and Notices Relating to Operations. (Variations in Format or Preparation of Records) TTB REC 5170/6.

Description: This information collection is used by permittees who wish to request a variance. We use written applications, letterheads, and notices to rule on proposed variations from standard requirements, to ascertain that revenue is not placed in jeopardy and to protect the revenue. (Affects wholesale liquor dealers.)

Respondents: Private Sector.

Estimated Total Burden Hours: 515 hours.

OMB Number: 1513-0104.

Type of Review: Extension.

Title: Information Collected in Support of Small Producer's Wine Tax Credit.

Description: TTB collects this information to ensure proper tax credit. The information is used by taxpayers in preparing their returns and by TTB to verify tax computation. Recordkeepers are wine producers who want to transfer their credit to warehouse operators and the transferees who take such credit.

Respondents: Private Sector.

Estimated Total Burden Hours: 2,800 hours.

Clearance Officer: Frank Foote (202) 927-9347, Alcohol and Tobacco Tax and Trade Bureau, Room 200 East, 1310 G Street, NW., Washington, DC 20005.

OMB Reviewer: Alexander T. Hunt (202) 395-7316, Office of Management and Budget, Room 10235, New Executive Office Building, Washington, DC 20503.

Michael A. Robinson,
Treasury PRA Clearance Officer.

[FR Doc. E6-13572 Filed 8-16-06; 8:45 am]

BILLING CODE 4810-31-P